DEPARTMENT OF THE INTERIOR

Fish and Wildlife Service

[FWS-R4-R-2014-N169; FXRS12650400000S3-123-FF04R02000]

Sam D. Hamilton Noxubee National Wildlife Refuge, Mississippi; Draft Comprehensive Conservation Plan and Environmental Assessment; Correction

AGENCY: Fish and Wildlife Service, Interior.

ACTION: Withdrawal of notice.

SUMMARY: On July 30, 2014, we, the U.S. Fish and Wildlife Service, announced the availability for public review and comment of a draft comprehensive conservation plan and environmental assessment (draft CCP/EA) for Sam D. Hamilton Noxubee National Wildlife Refuge in Mississippi. However, edits had not yet been completed on the draft CCP/EA, and the document is not yet ready for public review. We will publish a second Federal Register notice when the draft CCP/EA is ready for review.

FOR FURTHER INFORMATION CONTACT: Steve Reagan, (662) 323-5548 x225, or Steve_Reagan@fws.gov.

SUPPLEMENTARY INFORMATION: Pursuant to the National Wildlife Refuge System Improvement Act of 1997 (16 U.S.C. 668dd et seq.), U.S. Fish and Wildlife Service (Service) comprehensive conservation plan policy, and NEPA regulations (40 CFR 1506.6), we, the Service, announced the availability of a draft comprehensive conservation plan and environmental assessment (draft CCP/EA) for Sam D. Hamilton Noxubee National Wildlife Refuge in Oktibbeha, Winston, and Noxubee Counties, Mississippi, for public review and comment. This announcement published in the Federal Register on July 30, 2014 (79 FR 44188). However, edits had not yet been completed on the draft CCP/EA; therefore, the draft CCP/EA is not yet ready for public review. We will publish a second Federal Register notice when the draft CCP/EA is ready for review, and open a comment period.

Authority

This notice is published under the authority of the National Wildlife Refuge System Improvement Act of 1997 (16 U.S.C. 668dd et seq.).

Dated: August 8, 2014.
Emily Jo Williams,
Acting Regional Director.

[FR Doc. 2014-19377 Filed 8-19-14; 8:45 am]

BILLING CODE 4310-55-P